DEPARTMENT OF ENERGY

Federal Energy Regulatory Commission

[Docket No. CP26-25-000]

Columbia Gulf Transmission, LLC; Notice of Schedule for the Preparation of an Environmental Assessment for the Maysville Project

On November 17, 2025, Columbia Gulf Transmission, LLC (Columbia) filed an application in Docket No. CP26-25-000 requesting a Certificate of Public Convenience and Necessity pursuant to Section 7(c) of the Natural Gas Act to construct and operate certain natural gas pipeline facilities. The proposed project is known as the Maysville Project (Project) and would supply 340,000 dekatherms per day (Dth/d) of natural gas transportation capacity to the East Kentucky Power Cooperative's Hugh L. Spurlock Power Station.

On November 26, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1768206161.

Schedule for Environmental Review

Issuance of EA August 11, 2026

90-day Federal Authorization Decision Deadline ² November 9, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project involves the installation of 42 miles of 30-inch-diameter natural gas pipeline in Rowan, Fleming, and Mason Counties, Kentucky; a tie-in to the existing Columbia Gulf Mainline in Rowan County, Kentucky (including the installation of a new 36-inch by 30-inch bidirectional pig launcher/receiver); ³ construction and operation of a new meter station (i.e., North Maysville Delivery Meter Station) in Mason County, Kentucky, including a tie-in to East Kentucky Power Cooperative's Hugh L. Spurlock Power Station and installation of a new 36-inch by 30-inch bidirectional pig launcher/receiver; and installation of three new 30-inch-diameter mainline valves along the proposed 30-inch-diameter pipeline.

³ A “pig” is a tool that the pipeline company inserts into and pushes through the pipeline for cleaning the pipeline, conducting internal inspections, or other purposes. A launcher/receiver are where pigs are inserted/retrieved from the pipeline.

Background

On January 7, 2026, the Commission issued a Notice of Scoping Period Requesting Comments on Environmental Issues for the Proposed Maysville Project and Notice of Public Scoping Session (Notice of Scoping). The Notice of Scoping was sent to affected landowners; federal, state, and local government agencies; elected officials; environmental and public interest groups; Native American tribes; other interested parties; and local libraries and newspapers. To date, the Commission has received comments from several landowners, Kentucky Electric Cooperatives, East Kentucky Power Cooperative, Kentucky Association of Manufacturers, Kentucky State Treasurer, State Senator Robert Stivers, Republican Party of Kentucky's 4th District, Mason County Judge Executive, and the Clark County Fire Chief. The primary issues raised by the commenters are concerns about adverse effects on water quality, hydrology, wildlife habitats, soil erosion, karst features, historic resources, agricultural land, property values, safety, nearby communities, and increased greenhouse gas emissions. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-25), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: January 14, 2026.
Debbie-Anne A. Reese,
Secretary.

[FR Doc. 2026-00985 Filed 1-16-26; 8:45 am]

BILLING CODE 6717-01-P